ENVIRONMENTAL PROTECTION AGENCY

40 CFR Part 52

[EPA-R05-OAR-2023-0318; FRL-11926-01-R5]

Air Plan Approval; Ohio; Greif Packaging LLC

AGENCY: Environmental Protection Agency (EPA).

ACTION: Proposed rule.

SUMMARY: The Environmental Protection Agency (EPA) is proposing to approve under the Clean Air Act (CAA), a State Implementation Plan (SIP) revision to the sulfur dioxide (SO2) regulations under Chapter 3745-18 of the Ohio Administrative Code (OAC). Ohio submitted the request to EPA on June 8, 2023. The revision removes SO2 emissions limitations for fuel burning equipment at the Greif Packaging, LLC facility located at 9420 Warmington Rd. SW in Massillon, Ohio (Greif facility). The units that were subject to these limits have been permanently shut down.

DATES: Comments must be received on or before August 16, 2024.

ADDRESSES: Submit your comments, identified by Docket ID No. EPA-R05-OAR-2023-0318 at https://www.regulations.gov, or via email to langman.michael@epa.gov. For comments submitted at Regulations.gov, follow the online instructions for submitting comments. Once submitted, comments cannot be edited or removed from the docket. EPA may publish any comment received to its public docket. Do not submit electronically any information you consider to be Confidential Business Information (CBI), Proprietary Business Information (PBI), or other information whose disclosure is restricted by statute. Multimedia submissions (audio, video, etc.) must be accompanied by a written comment. The written comment is considered the official comment and should include discussion of all points you wish to make. EPA will generally not consider comments or comment contents located outside of the primary submission (i.e., on the web, cloud, or other file sharing system). For additional submission methods, please contact the person identified in the FOR FURTHER INFORMATION CONTACT section. For the full EPA public comment policy, information about CBI, PBI, or multimedia submissions, and general guidance on making effective comments, please visit https://www.epa.gov/dockets/commenting-epa-dockets.

FOR FURTHER INFORMATION CONTACT: Tyler Salamasick, Air and Radiation Division (AR18J), Environmental Protection Agency, Region 5, 77 West Jackson Boulevard, Chicago, Illinois 60604, (312) 886-6206, salamasick.tyler@epa.gov. The EPA Region 5 office is open from 8:30 a.m. to 4:30 p.m., Monday through Friday, excluding Federal holidays.

SUPPLEMENTARY INFORMATION: Throughout this document whenever “we,” “us,” or “our” is used, we mean EPA.

I. What is the background for these actions?

On August 27, 1976, EPA promulgated an SO2 Federal Implementation Plan (FIP), specifying SO2 emission limits for fuel-burning equipment at the Greif facility (40 CFR 52.1881(a)(27)(v)). On December 28, 1979, the Ohio Environmental Protection Agency (Ohio EPA) established rules in the OAC to control SO2 emissions from fuel-burning equipment. Ohio EPA amended OAC Chapter 3745-18-82(F) to align it with the FIP.

These rules included provisions for limiting SO2 emissions from the Greif facility under paragraph (F) of OAC rule 3745-18-82. At that time, the Greif facility operated six boilers (B001 to B006), with B005 and B006 having the capability to burn fuel oil in addition to natural gas. On March 21, 2008 (56 FR 15083), EPA approved rules for Franklin, Stark, and Summit Counties and for one source in Sandusky County which replaced the FIP.

The Greif facility currently has no coal or oil-fired boilers. The only remaining boilers are natural gas fired. Since the burning of natural gas in fuel burning equipment is exempt from the requirements of OAC rule 3745-18 under OAC rule 3745-18-06(A), the remaining boilers are not subject to 3745-18-82(F).

II. What is EPA's analysis of Ohio's SIP revision?

On June 8, 2023, Ohio EPA submitted a revision to Ohio's SIP removing SO2 boiler emissions limits for the Greif facility contained in paragraph (F) of OAC rule 3745-18-82. EPA requested supplemental information clarifying that the removal of paragraph (F) did not impact any existing emission units at the facility. The original language of paragraph (F) required that any owner or operator at 9420 Warmington Rd. SW, Massillon, Ohio shall not cause or permit the emission of sulfur dioxide from any stack at this facility in excess of 0.50 pounds of sulfur dioxide per millions of British thermal units actual heat input.

EPA requested clarification from Ohio EPA to determine that the language of “all stacks” was either not applicable to stacks other than the subject boilers, or to ensure that any existing non-boiler emission units had emission limits that are at least as stringent as the original limit. On February 21, 2024, Ohio EPA provided supplemental information including clarification that no other emission units were subject to the rule and that the changes were modeled and did not show an adverse impact on the National Ambient Air Quality Standards (NAAQS).

The original FIP identified only a single requirement for Stark County, and that was for fossil fuel fired steam generating unit boilers. The language uses the term “any stack” which is interpreted by Ohio to mean stacks for fossil fuel fired steam generating units. In 2006, Ohio EPA edited OAC rule 3745-18-82 to match the FIP language. Ohio EPA carried over the “any stack” language to be consistent with the original FIP language to indicate that any “fossil fuel fired steam generating units” at the facility had to abide by that limit.

The Greif facility currently has no coal/oil fired boilers and two natural gas fired boilers. Additionally, the 2010 SO2 standard would require new permitting and modeling for any new boilers and so, if the facility adds a new boiler subject to OAC rule 3745-18, Ohio EPA must generate new facility specific limits and language under the new, more stringent, standard.

The Greif facility currently operates a natural gas-fired flare to control the emissions of hydrogen sulfide (H2S) from an anaerobic digestor. The flare emits SO2. Under CAA section 110(l), EPA cannot approve a plan revision if the revision would interfere with any applicable requirement concerning attainment and reasonable further progress (as defined in section 7501 of this title), or any other applicable requirement of this chapter. EPA reviewed Ohio EPA's supplemental information, including the supplemental modeling demonstration for the flare, and concluded that the proposed rule revision is approvable because it clarifies regulatory requirements at the Greif facility, does not result in emissions increases, and does not interfere with attainment or maintenance of the NAAQS.

III. What action is EPA taking?

EPA is proposing to approve the removal the emission limits for the Greif facility contained in OAC rule 3745-18-82(F) from Ohio's SIP.

IV. Incorporation by Reference

In this rule, EPA is proposing to include in a final EPA rule regulatory text that includes incorporation by reference. In accordance with requirements of 1 CFR 51.5, EPA is proposing to incorporate by reference Ohio rule OAC 3745-18-82(F), effective April 16, 2023, discussed in section III of this preamble. EPA has made, and will continue to make, these documents generally available through www.regulations.gov and at the EPA Region 5 Office (please contact the person identified in the FOR FURTHER INFORMATION CONTACT section of this preamble for more information).

V. Statutory and Executive Order Reviews

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a significant regulatory action subject to review by the Office of Management and Budget under Executive Orders 12866 (58 FR 51735, October 4, 1993), and 14094 (88 FR 21879, April 11, 2023);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it approves a state program;

• Is not a significant regulatory action subject to Executive Order 13211 (66 FR 28355, May 22, 2001); and

• Is not subject to requirements of section 12(d) of the National Technology Transfer and Advancement Act of 1995 (15 U.S.C. 272 note) because application of those requirements would be inconsistent with the CAA.

In addition, the SIP is not approved to apply on any Indian reservation land or in any other area where EPA or an Indian tribe has demonstrated that a tribe has jurisdiction. In those areas of Indian country, the rule does not have Tribal implications and will not impose substantial direct costs on Tribal governments or preempt Tribal law as specified by Executive Order 13175 (65 FR 67249, November 9, 2000).

Executive Order 12898 (Federal Actions To Address Environmental Justice in Minority Populations and Low-Income Populations, 59 FR 7629, February 16, 1994) directs Federal agencies to identify and address “disproportionately high and adverse human health or environmental effects” of their actions on minority populations and low-income populations to the greatest extent practicable and permitted by law. EPA defines environmental justice (EJ) as “the fair treatment and meaningful involvement of all people regardless of race, color, national origin, or income with respect to the development, implementation, and enforcement of environmental laws, regulations, and policies.” EPA further defines the term fair treatment to mean that “no group of people should bear a disproportionate burden of environmental harms and risks, including those resulting from the negative environmental consequences of industrial, governmental, and commercial operations or programs and policies.”

The Ohio EPA did not evaluate EJ considerations as part of its SIP submittal; the CAA and applicable implementing regulations neither prohibit nor require such an evaluation. EPA did not perform an EJ analysis and did not consider EJ in this action. Due to the nature of the action being taken here, this action is expected to have a neutral to positive impact on the air quality of the affected area. Consideration of EJ is not required as part of this action, and there is no information in the record inconsistent with the stated goal of E.O. 12898 of achieving EJ for people of color, low-income populations, and Indigenous peoples.

List of Subjects in 40 CFR Part 52

Environmental protection, Air pollution control, Incorporation by reference, Intergovernmental relations, Reporting and recordkeeping requirements, Sulfur oxides.

Dated: July 10, 2024.
Debra Shore,
Regional Administrator, Region 5.

[FR Doc. 2024-15572 Filed 7-16-24; 8:45 am]

BILLING CODE 6560-50-P